DEPARTMENT OF LABOR

Employment and Training Administration

[TA-W-64,939]

Farmtrac North America, LLC, Tarboro, NC; Notice of Termination of Investigation

Pursuant to Section 221 of the Trade Act of 1974, as amended, an investigation was initiated on January 22, 2009 in response to a worker petition filed by the Receivership Attorney on behalf of workers of Farmtrac North America, LLC, Tarboro, North Carolina.

The petitioner has requested that the petition be withdrawn. Consequently, the investigation has been terminated.

Signed at Washington, DC, this 4th day of February 2009.
Richard Church,
Certifying Officer, Division of Trade Adjustment Assistance.

[FR Doc. E9-3038 Filed 2-12-09; 8:45 am]

BILLING CODE 4510-FN-P